DEPARTMENT OF JUSTICE

Notice of Lodging of Consent Decree Under the Comprehensive Environmental Response, Compensation and Liability Act

Notice is hereby given that on June 13, 2011, a proposed Consent Decree in United States v. Tecumseh Products Company, et al., No. 1:03-cv-00401 (E.D. Wisc.) was lodged with the United States District Court for the Eastern District of Wisconsin.

In this action, the United States seeks the implementation of response actions at, and the reimbursement, pursuant to the Comprehensive Environmental Response, Compensation and Liability Act (“CERCLA”), 42 U.S.C. 9601 et seq., of costs incurred by the United States in responding to a release or threat of release of hazardous substances in, the Lower River portion of the Sheboygan River and Harbor Superfund Site in Sheboygan County, Wisconsin (“Site”). In the Amended Complaint filed in this matter, the United States alleges that Tecumseh Products Company (“Tecumseh”) was an “owner or operator” of the Site at the time of the disposal of hazardous substances in the Lower River portion of the Site and therefore, pursuant to CERCLA Section 107(a)(2), 42 U.S.C. 9607(a)(2), is liable for the reimbursement of response costs and for the performance of response actions under CERCLA. In the Amended Complaint, the United States further alleges that co-Defendants Pollution Risk Services LLC, and Palace Associates, LLC, are liable, under CERCLA Section 107(a)(1), 42 U.S.C. 9607(a)(1), as present owners of a portion of the Site.

This is the third settlement agreement in this matter. On May 12, 2004, the United States District Court for the Eastern District of Wisconsin approved and entered a Consent Decree (“2004 Decree”) that required Tecumseh to: (1) Implement those components of the remedy for the Upper River portion of the Site that were set forth in a May 12, 2004 Record of Decision issued by the U.S. Environmental Protection Agency (“U.S. EPA”); (2) pay $2.1 million towards the United States= past site past response costs; and (3) reimburse U.S. EPA all future Upper River response costs incurred by the United States. The $2.1 million in past costs has been paid, and all future Upper River response costs billed to Tecumseh to date have also been paid.

Under a 2006 Amendment to the 2004 Decree, a third party, Pollution Risk Services LLC (“PRS”), became party to the Amended Consent Decree and assumed lead responsibility for completing the cleanup of the Upper River Section of the Site. Tecumseh, however, remains liable for completion of the Upper River remedy should PRS fail to perform.

In 2006, PRS purchased the former Tecumseh plant in Sheboygan Falls, Wisconsin, which was a source of hazardous substances that were released to the Site. Subsequently, Palace Associates II, LLC, (“Palace”), an affiliate of PRS, purchased the remainder of the Tecumseh plant site.

Under the current proposed Consent Decree, Tecumseh, PRS, and Palace commit to finance and perform the remedy for the remainder of the Site, i.e., the Lower River, Middle River, and Inner Harbor portions of the Site, which is expected to cost about $12.6 million, and pay U.S. EPA's cost of overseeing the remedial action. As in the case of the 2006 Consent Decree Amendment, the party expected to undertake the work is PRS. Also as in the case of the 2006 Consent Decree Amendment, Tecumseh would be fully obligated to complete the work in the event PRS defaults on its obligations under the proposed Consent Decree.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Tecumseh Products Company, DOJ Ref. # 90-11-2-06440/2. The proposed Consent Decree may be examined at U.S. EPA Region 5, 77 West Jackson Boulevard, Chicago, IL 60604. (contact Richard Nagle, 312-353-8222).

During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please refer to the referenced case and enclose a check in the amount of $25.00 (25 cents per page reproduction costs) (Consent Decree only) or $83.00 (Consent Decree and all appendices), payable to the U.S. Treasury.

Maureen Katz,
Assistant Chief, Environmental Enforcement Section, Environment and Natural Resources Division.

[FR Doc. 2011-15870 Filed 6-23-11; 8:45 am]

BILLING CODE 4410-15-P